DEPARTMENT OF THE INTERIOR

National Park Service

Notice of Intent to Repatriate Cultural Items: Field Museum of Natural History, Chicago, IL

AGENCY: National Park Service, Interior.

ACTION: Notice.

Notice is here given in accordance with the Native American Graves Protection and Repatriation Act (NAGPRA), 43 CFR 10.8 (f), of the intent to repatriate cultural items in the possession of the Field Museum of Natural History, Chicago, IL, that meet the definition of “unassociated funerary objects” under 25 U.S.C. 3001.

This notice is published as part of the National Park Service's administrative responsibilities under NAGPRA, 43 CFR 10.8 (f). The determinations in this notice are the sole responsibility of the museum, institution, or Federal agency that has control of the cultural items. The National Park Service is not responsible for the determinations in the notice.

The 19 cultural items are 4 charms or ornaments, 1 bundle of rhythm sticks, 1 spirit club, 2 guardian figures, 2 spirit wands, 1 necklace, 1 comb, 2 bracelets, 1 mat, and 4 masks.

The first charm (catalog number 77863) is a neck charm or ornament for a dancing robe that is a section of a deer's hoof carved to depict a sea monster. The second charm (catalog number 77865) is a neck charm that is a circlet of devil's club branches with a bundle of twigs attached to it with spruce root. The third charm (catalog number 77878) is carved bone depicting a land otter with the tentacles of a devilfish. The fourth charm or robe ornament (catalog number 77879) is carved wood “representing an Ict' ” (shaman) kneeling on the head of a land otter. The bundle of rhythm sticks (catalog number 77864) are wooden beating sticks, several of which are carved to depict land otters. The spirit club (catalog number 77866) is made of wood carved at one end in the shape of a land otter and carved at the other end in the shape of a mountain goat. The first guardian figure (catalog number 77867) is a wood knot carved as a “grotesque” figure of a man. A hollow place in the figure was filled with eagle's down. The second guardian figure (catalog number 77870) is a wood carving that depicts a man sitting up with his elbows resting on his knees. The first spirit wand (catalog number 77868) is made of wood carved to depict a land otter with one spirit lying on its back on the otter's back and another spirit lying on its back underneath the otter's belly. The second spirit wand (catalog number 77869) is a short wooden club carved to depict a land otter. The necklace (catalog number 77873) is composed of seal teeth. The comb (catalog number 77874) is made of whale bone carved to depict a man's face on one side and a whale on the other, and wrapped with a cord of twisted cedar bark. The first bracelet or amulet (catalog number 77875) is made of carved bone decorated with incised lines. The second bracelet (catalog number 77876) is made of bone carved to depict a herd of caribou. The mat (catalog number 79252) is made from red cedar bark. The first mask (catalog number 79254) is made of carved wood decorated with haliotes shell and painted black, red, and green, representing the spirit of the loon. The second mask (catalog number 79255) is made of carved wood painted black, red, and green, representing the spirit of an old Tlingit woman with a labret or lip ornament inserted in the lower lip. The third mask (catalog number 79256) is made of carved wood painted red, black, and green, representing the “spirit of a Tlingit 'Ict' ” (shaman). Carvings on the forehead depict a combination of land otter and devilfish. The fourth mask (catalog number 79257) is made of carved wood painted in black, red, and green to represent a Tlingit spirit.

At an unknown date, Lieutenant George Thorton Emmons acquired the cultural items. In 1902, the Field Museum of Natural History purchased the cultural items from Lieutenant Emmons and accessioned the cultural items into its collection in the same year (accession number 807). Museum records do not indicate how Lieutenant Emmons acquired the cultural items.

The cultural affiliation of the cultural items is Tlingit as indicated by museum records and by consultation evidence presented by the Central Council of the Tlingit & Haida Indian Tribes. Museum records indicate that the cultural items were removed from a dilapidated grave house near a deserted village near Dry Bay to the north of the Alsek River, AK, and formerly belonged to a shaman of the “Kiet-kow-ee” family of the “ Gun-nah-ho” tribe. The museum has not been able to conclusively determine which contemporary tribe or clan may be the direct descendants of the historic “Gun-nah-ho” tribe referenced in the museum's catalog, and who may have occupied the Dry Bay area in the late 19th century when the cultural items were acquired. The anthropological literature indicates that the contemporary Yakutat Tribe was formed when the Dry Bay tribe merged with the Yakutat in 1910.

Officials of the Field Museum of Natural History have determined that, pursuant to 25 U.S.C. 3001 (3)(B), the cultural items described above are reasonably believed to have been placed with or near individual human remains at the time of death or later as part of the death rite or ceremony and are believed, by a preponderance of the evidence, to have been removed from a specific burial site of a Native American individual. Officials of the Field Museum of Natural History also have determined that, pursuant to 25 U.S.C. 3001 (2), there is a relationship of shared group identity that can be reasonably traced between the 19 unassociated funerary objects and the Central Council of the Tlingit & Haida Indian Tribes.

Officials of the Field Museum of Natural History assert that, pursuant to 25 U.S.C. 3001 (13), the museum has right of possession of the 19 unassociated funerary objects. Officials of the Field Museum of Natural History recognize the significance of the 19 unassociated funerary objects to the Central Council of the Tlingit & Haida Indian Tribes and have reached an agreement with the Central Council of the Tlingit & Haida Indian Tribes that allows the museum to return the 19 unassociated funerary objects to the Central Council of the Tlingit & Haida Indian Tribes voluntarily, pursuant to the compromise of claim provisions of the museum's repatriation policy.

Representatives of any other Indian tribe that believes itself to be culturally affiliated with the unassociated funerary objects should contact Jonathan Haas, MacArthur Curator of the Americas, Field Museum of Natural History, 1400 South Lake Shore Drive, Chicago, IL 60605, telephone (312) 665-7829, before September 2, 2004. Repatriation of the unassociated funerary objects to the Central Council of the Tlingit & Haida Indian Tribes may proceed after that date if no additional claimants come forward.

The Field Museum of Natural History is responsible for notifying the Central Council of the Tlingit & Haida Indian Tribes, Sealaska Corporation, Yak-Tat Kwaan Incorporated (Yakutat), and the Yakutat Tlingit Tribe that this notice has been published.

Dated: May 10, 2004
John Robbins,
Assistant Director, Cultural Resources.

[FR Doc. 04-17582 Filed 8-2-04; 8:45 am]

BILLING CODE 4310-50-S